DEPARTMENT OF HOMELAND SECURITY

Coast Guard

33 CFR Part 100

[Docket No. USCG-2012-0109]

RIN 1625—AA08

Special Local Regulations for Marine Events; Temporary Change of Dates for Recurring Marine Events in the Fifth Coast Guard District, Bogue Sound; Morehead City, NC

AGENCY: Coast Guard, DHS.

ACTION: Proposed rule; withdrawal.

SUMMARY: The Coast Guard is withdrawing its proposed rule concerning a temporary change of the enforcement period for a special local regulation of a recurring marine event in the Fifth Coast Guard District. The proposed rule was initiated to alter the date of the “Crystal Coast Super Boat Grand Prix,” conducted on the waters of Bogue Sound near Morehead City, North Carolina. No new rulemaking will be initiated on this matter; rather, the event will be held as detailed in the existing regulation.

DATES: The proposed rule is withdrawn on July 3, 2012.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0109 in the “Keyword” box, and then clicking “Search.”

FOR FURTHER INFORMATION CONTACT: If you have questions about this notice, call or email BOSN3 Joseph M. Edge, Coast Guard Sector North Carolina, Coast Guard; telephone 252-247-4525, email Joseph.M.Edge@uscg.mil. If you have questions on viewing material in the docket, call Renee V. Wright, Program Manager, Docket Operations, telephone 202-366-9826.

SUPPLEMENTARY INFORMATION:

Background

On March 15, 2012, we published a notice of proposed rulemaking entitled ”Special Local Regulations for Marine Events; Temporary Change of Dates for Recurring Marine Events in the Fifth Coast Guard District, Bogue Sound; Morehead City, NC” in the Federal Register (77 FR 15320). The proposed rulemaking would have altered the period of enforcement of the Special Local Regulation listed in 33 CFR 100.501(d)(3). The subject event was going to be rescheduled from the fourth or last Sunday in September to the third Saturday and Sunday in September. The proposed regulation would have closed a portion of the waters of Bogue Sound to vessel traffic during the boat race during the altered period of enforcement. No other changes to the underlying regulation were proposed.

Withdrawal

The sponsor of the “Crystal Coast Super Boat Grand Prix” has informed the Coast Guard that he will hold the event on a date within the limitations published and listed in 33 CFR 100.501(d)(3).

Authority

We issue this notice of withdrawal under the authority of 5 U.S.C. 552(a), 44 U.S.C. 1505(a)(3), and 33 CFR 1.05-1.

Dated: June 11, 2012.
A. Popiel,
Captain, U.S. Coast Guard, Captain of the Port North Carolina.

[FR Doc. 2012-16293 Filed 7-2-12; 8:45 am]

BILLING CODE 9110-04-P